DEPARTMENT OF EDUCATION

Applications for New Awards; Teacher Quality Partnership Grant Program

AGENCY: Office of Elementary and Secondary Education, Department of Education.

ACTION: Notice.

SUMMARY: The Department of Education (Department) is issuing a notice inviting applications for fiscal year (FY) 2022 for the Teacher Quality Partnership Grant (TQP) program, Assistance Listing Number 84.336S. This notice relates to the approved information collection under OMB control number 1894-0006.

DATES:

Applications Available: February 25, 2022.

Deadline for Notice of Intent to Apply: Applicants are strongly encouraged, but not required, to submit a notice of intent to apply by March 28, 2022.

Deadline for Transmittal of Applications: April 26, 2022.

Deadline for Intergovernmental Review: June 27, 2022.

Pre-Application Webinars: The Office of Elementary and Secondary Education intends to post pre-recorded informational webinars designed to provide technical assistance to interested applicants for grants under the TQP program. These informational webinars will be available on the TQP web page shortly after this notice is published in the Federal Register at https://oese.ed.gov/offices/office-of-discretionary-grants-support-services/effective-educator-development-programs/teacher-quality-partnership/applicant-info-and-eligibility.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Mia Howerton, U.S. Department of Education, 400 Maryland Avenue SW, Room 3C152, Washington, DC 20202-5960. Telephone: (202) 205-0147. Email: Mia.Howerton@ed.gov or TQPartnership@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the TQP program are to improve student achievement; improve the quality of prospective and new teachers by improving the preparation of prospective teachers and enhancing professional development activities for new teachers; hold teacher preparation programs at institutions of higher education (IHEs) accountable for preparing teachers who meet applicable State certification and licensure requirements; and recruit highly qualified individuals, including individuals of color and individuals from other occupations, into the teaching force.

Background: The TQP program supports eligible partnerships that must include a high-need local educational agency (LEA), a high-need school served by the LEA, or a high-need early childhood education (ECE) program; a partner institution; a school, department, or program of education within such partner institution; and a school or department of arts and sciences within such partner institution. It may also include certain other entities. Under section 202(d) and (e) of the Higher Education Act of 1965, as amended (HEA), these partnerships must implement either (a) teacher preparation programs at the pre-baccalaureate or “fifth-year” level that include specific reforms in IHEs' existing teacher preparation programs; or (b) teacher residency programs for individuals who are recent graduates with strong academic backgrounds or are mid-career professionals from outside the field of education.

In the FY 2022 TQP competition, through Absolute Priority 1 and 2, we support new pre-baccalaureate and teacher residency models that would emphasize the creation or expansion of high-quality, comprehensive pathways into the classroom. Through Absolute Priorities 3 and 4, we add a focus on school leadership. Absolute Priority 3 supports the development of school leader programs in conjunction with the preparation of pre-baccalaureate teachers under Absolute Priority 1. Absolute Priority 4 supports the development of school leader programs in conjunction with the residency model under Absolute Priority 2.

Research on the TQP program shows that high-quality residency models can expand the pool of well-prepared applicants entering the teaching profession, promoting diversity of the workforce and bringing a wide range of experiences into the classroom to support students. In addition, the close partnership between school districts and IHEs required by the TQP program ensures that training programs are closely aligned with practice. A 2014 implementation study published by the Institute of Education Sciences ¹ shows that residents are more likely than nonresidents to report feeling prepared to enter the classroom and that after program completion, more than 90 percent of residents stayed in their school district for three years. The Department believes that support for high-quality residency programs is a critical part of ensuring that all students have access to well-prepared and qualified educators.

¹ Silva, T., McKie, A., Knechtel, V., Gleason, P., & Makowsky, L. (2014). Teaching Residency Programs: A Multisite Look at a New Model to Prepare Teachers for High-Need Schools (NCEE 2015-4002). Washington, DC: National Center for Education Evaluation and Regional Assistance, Institute of Education Sciences, U.S. Department of Education.

The Department also recognizes that school leaders are second only to classroom teachers among school-based factors that affect student learning. School leaders play a critically important role in students' academic success, especially in underserved schools, by creating cultures of high expectations for all students, recruiting and retaining highly effective teachers, and creating positive working conditions.

A recent report, “How Principals Affect Students and Schools: A Systematic Synthesis of Two Decades of Research”,² paints a detailed picture of how strong principals affect students' educational and social outcomes as well as other outcomes, including teacher retention. The studies showed that principals' contributions to student achievement were nearly as large as the average effects of teachers identified in similar studies—but larger in scope because they were distributed over an entire school rather than a single classroom. The report notes that its findings on the importance of principals' effects suggest the need for renewed attention to strategies for cultivating, selecting, preparing, and supporting a high-quality principal workforce. Further, the report notes that to meet the needs of growing numbers of marginalized students, principals should ensure fair, just, and nondiscriminatory treatment of all students, the removal of barriers, the provision of resources and supports, and the creation of opportunities with the goal of promoting equitable outcomes.

² Grissom, J.A., Egalite, A.J., and Lindsay, C.A. “How Principals Affect Students and Schools: A Systematic Synthesis of Two Decades of Research,” February 2021. www.wallacefoundation.org/knowledgecenter/pages/how-principals-affect-students-and-schools-a-systematic-synthesis-of-two-decades-of-research.aspx.

This competition includes four competitive preference priorities. Competitive Preference Priority 1, from the Effective Educator Development (EED) notice of final priorities, focuses on projects that propose to increase educator diversity. Under Competitive Preference Priority 1, projects must be designed to address identified teacher shortage areas and developed and implemented in partnership with Historically Black Colleges and Universities, Hispanic-Serving Institutions, Tribally Controlled Colleges and Universities, and other minority-serving institutions, in order to diversify the teacher pipeline. Teachers of color benefit all students and can have a particularly strong positive impact on students of color.³ Yet only around one in five teachers ⁴ are people of color, compared to more than half of K-12 public school students.⁵ The Department recognizes that diverse educators will play a critical role in ensuring equity in our education system.

³ https://learningpolicyinstitute.org/sites/default/files/productfiles/Diversifying_Teaching_Profession_REPORT_0.pdf.

⁴ www.bls.gov/cps/cpsaat11.htm.

⁵ https://nces.ed.gov/programs/coe/indicator/cge.

Competitive Preference Priorities 2, 3, and 4 are all from the Secretary's Supplemental Priorities. Competitive Preference Priority 2 focuses on projects that propose to support a diverse educator workforce that is prepared with the necessary certification and credentialing to teach in shortage areas, while recognizing the teachers' needs in the high-need schools to be served by the proposed project.

Competitive Preference Priority 2 focuses on strengthening teacher recruitment, selection, preparation, support, development, and effectiveness in ways that are consistent with the Department's policy goals of supporting teachers as the professionals they are and improving outcomes for all students by ensuring that underserved students have equal access to well-qualified, experienced, diverse, and effective educators. There is significant inequity in students' access to well-qualified, experienced, and effective teachers ⁶ particularly for students from low-income backgrounds, students of color, and children or students with disabilities. Teacher candidates deserve access to high-quality comprehensive preparation programs that have high standards and provide necessary supports for successful completion. Additionally, it is crucial to support and retain educators through practices such as mentoring; creating or enhancing opportunities for professional growth, including leadership opportunities; providing competitive compensation; and creating conditions for successful teaching and learning. Finally, Competitive Preference Priority 2 emphasizes the need to increase the number of teachers with certification or dual certification in shortage areas, as well as advanced certifications from nationally recognized professional organizations.

⁶ Isenberg, E., Max, J., Gleason, P., Johnson, M., Deutsch, J., and Hansen, M. (2016). Do Low-Income Students Have Equal Access to Effective Teachers? Evidence from 26 Districts (NCEE 2017-4007). Washington, DC: National Center for Education Evaluation and Regional Assistance, Institute of Education Sciences, U.S. Department of Education.

Competitive Preference Priorities 3 and 4 focus on projects that propose to meet students' social, emotional, and academic needs and support projects that propose to promote equity in student access to educational resources and opportunities. These competitive preference priorities recognize the social, emotional, and academic needs of teacher candidates, as well as the importance of preparing those teachers to create inclusive, supportive, equitable, unbiased, and identity-safe learning environments for their students.

Research has demonstrated that, in elementary and secondary schools, children learn, grow, and achieve at higher levels in safe and supportive environments, and in the care of responsive adults they can trust.⁷ It is critical, then, to prioritize support for students' social, emotional, and academic needs, not only to benefit students' social and emotional wellness, but also to support their academic success. Mounting evidence suggests that supporting social and emotional learning can contribute to overall student development.⁸ Therefore, educators need to develop skills to effectively incorporate social and emotional learning into their instructional practice.

⁷ Reyes, M.R., Brackett, M.A., Rivers, S.E., White, M., & Salovey, P. (2012). Classroom Emotional Climate, Student Engagement, and Academic Achievement. Journal of Educational Psychology, 104 (3), 700.

⁸ Cross Francis, D., Liu, J., Bharaj, P.K., & Eker, A. (2019). “Integrating Social-emotional and Academic Development in Teachers' Approaches to Educating Students,” Policy Insights from the Behavioral and Brain Sciences, 6 (2), 138-146; Swanson, E., Melguizo, T., & Martorell, P. (2020). Examining the Relationship between Psychosocial and Academic Outcomes in Higher Education: A Descriptive Analysis. (EdWorkingPaper: 20-286); Robbins, S.B., Lauver, K., Le, H., Davis, D., Langley, R., & Carlstrom, A. (2004). Do Psychosocial and Study Skill Factors Predict College Outcomes? A Meta-Analysis. Psychological Bulletin, 130(2), 261-288.

Lastly, this competition includes one invitational priority for applicants that propose Grow Your Own (GYO) projects that encourage members of the community to pursue teaching careers. GYO projects can help address teacher shortages by increasing retention rates while also enhancing educator diversity.

The Biden Administration is committed to strengthening and diversifying teacher preparation, including by supporting GYO programs, to strengthen teacher pipelines and address shortages, increase the number of teachers of color, and support the growth of teachers. GYO programs encourage partnerships between LEAs and educator preparation programs. The effort to recruit and retain diverse educators, including through GYO programs, starts with such a collaboration. By fostering a shared reliance on the teacher preparation work that both the districts and IHEs provide, GYO models promote the preparation of local residents who will then be retained in that community and help to build capacity. A report from New America, Grow Your Own: A 50-State Scan of Grow Your Own Teacher Policies and Programs,⁹ suggests that homegrown teachers have higher rates of retention and GYO programs remove barriers that have kept some individuals from being able to access and persist in a teacher preparation program. The Department sees GYO as a practice that warrants investments through the TQP program for further learning and evidence-building, replication, and dissemination.

⁹ Garcia, A. (2020). “A 50-State Scan of Grow Your Own Teacher Policies and Programs.” www.newamerica.org/education-policy/reports/grow-your-own-teachers/.

Priorities: This notice contains four absolute priorities, four competitive preference priorities, and one invitational priority. In accordance with 34 CFR 75.105(b)(2)(iv), the absolute priorities are from section 202(d), (e), and (f) of the HEA (20 U.S.C. 1022a(d), (e) and (f)). Competitive Preference Priority 1 is from the EED notice of final priorities published in the Federal Register on July 9, 2021 (86 FR 36217) (EED NFP), and Competitive Preference Priorities 2, 3, and 4 are from the Secretary's notice of final supplemental priorities and definitions published in the Federal Register on December 10, 2021 (86 FR 70612) (Supplemental Priorities).

Absolute Priorities: For FY 2022 and any subsequent year in which we make awards from the list of unfunded applications from this competition, these priorities are absolute priorities. All applications must address one of the four absolute priorities. Each of the four absolute priorities constitutes its own funding category. Assuming that applications in each funding category are of sufficient quality, the Secretary intends to award grants under each absolute priority.

Applications will be peer reviewed and scored based on the selection criteria. Applications will be scored and placed in rank order by absolute priority; thus, applications will be scored and ranked separately to create four funding slates. Applications that address more than one absolute priority or do not clearly identify the absolute priority being addressed will not be reviewed.

Absolute Priority 1—Partnership Grants for the Preparation of Teachers.

Under this priority, an eligible partnership must carry out an effective pre-baccalaureate teacher preparation program or a fifth-year initial licensing program that includes all of the following:

(a) Program Accountability. Implementing reforms, described in paragraph (b) of this priority, within each teacher preparation program and, as applicable, each preparation program for ECE programs, of the eligible partnership that is assisted under this priority, to hold each program accountable for—

(1) Preparing—

(i) New or prospective teachers to meet the applicable State certification and licensure requirements, including any requirements for certification obtained through alternative routes to certification, or, with regard to special education teachers, the qualifications described in section 612(a)(14)(C) of the Individuals with Disabilities Education Act (IDEA) (including teachers in rural school districts, special educators, and teachers of students who are limited English proficient);

(ii) Such teachers and, as applicable, early childhood educators, to understand empirically based practice and scientifically valid research related to teaching and learning and the applicability of such practice and research, including through the effective use of technology instructional techniques, and strategies consistent with the principles of universal design for learning, and through positive behavioral interventions and support strategies to improve student achievement; and

(iii) As applicable, early childhood educators to be highly competent; and

(2) Promoting strong teaching skills and, as applicable, techniques for early childhood educators to improve children's cognitive, social, emotional, and physical development.

Note: In addressing paragraph (a) of this priority, applicants may either discuss their implementation of reforms within all teacher preparation programs that the partner IHE administers and that would be assisted under this TQP grant, or selected teacher preparation programs that need particular assistance and that would receive the TQP grant funding.

(b) Required reforms. The reforms described in paragraph (a) shall include—

(1) Implementing teacher preparation program curriculum changes that improve, evaluate, and assess how well all prospective and new teachers develop teaching skills;

(2) Using empirically-based practice and scientifically valid research, where applicable, about teaching and learning so that all prospective teachers and, as applicable, early childhood educators—

(i) Understand and can implement research-based teaching practices in classroom instruction;

(ii) Have knowledge of student learning methods;

(iii) Possess skills to analyze student academic achievement data and other measures of student learning and use such data and measures to improve classroom instruction;

(iv) Possess teaching skills and an understanding of effective instructional strategies across all applicable content areas that enable general education and special education teachers and early childhood educators to—

(A) Meet the specific learning needs of all students, including students with disabilities, students who are limited English proficient, students who are gifted and talented, students with low literacy levels, and, as applicable, children in ECE programs; and

(B) Differentiate instruction for such students;

(v) Can effectively participate as a member of the individualized education program team, as defined in section 614(d)(1)(B) of the IDEA; and

(vi) Can successfully employ effective strategies for reading instruction using the essential components of reading instruction;

(3) Ensuring collaboration with departments, programs, or units of a partner institution outside of the teacher preparation program in all academic content areas to ensure that prospective teachers receive training in both teaching and relevant content areas in order to meet the applicable State certification and licensure requirements, including any requirements for certification obtained through alternative routes to certification, or, with regard to special education teachers, the qualifications described in section 612(a)(14)(C) of the IDEA, which may include training in multiple subjects to teach multiple grade levels as may be needed for individuals preparing to teach in rural communities and for individuals preparing to teach students with disabilities;

(4) Developing and implementing an induction program;

(5) Developing admissions goals and priorities aligned with the hiring objectives of the high-need LEA in the eligible partnership; and

(6) Implementing program and curriculum changes, as applicable, to ensure that prospective teachers have the requisite content knowledge, preparation, and degree to teach Advanced Placement or International Baccalaureate courses successfully.

(c) Clinical experience and interaction. Developing and improving a sustained and high-quality preservice clinical education program to further develop the teaching skills of all prospective teachers and, as applicable, early childhood educators involved in the program. Such programs shall do the following—

(1) Incorporate year-long opportunities for enrichment, including—

(i) Clinical learning in classrooms in high-need schools served by the high-need LEA in the eligible partnership, and identified by the eligible partnership; and

(ii) Closely supervised interaction between prospective teachers and faculty, experienced teachers, principals, other administrators, and school leaders at ECE programs (as applicable), elementary schools, or secondary schools, and providing support for such interaction;

(2) Integrate pedagogy and classroom practice and promote effective teaching skills in academic content areas;

(3) Provide high-quality teacher mentoring;

(4) Be offered over the course of a program of teacher preparation;

(5) Be tightly aligned with course work (and may be developed as a fifth year of a teacher preparation program);

(6) Where feasible, allow prospective teachers to learn to teach in the same LEA in which the teachers will work, learning the instructional initiatives and curriculum of that LEA;

(7) As applicable, provide training and experience to enhance the teaching skills of prospective teachers to better prepare such teachers to meet the unique needs of teaching in rural or urban communities; and

(8) Provide support and training for individuals participating in an activity for prospective or new teachers described in this paragraph, or paragraphs (a) and (b), or (d) of this priority, and for individuals who serve as mentors for such teachers, based on each individual's experience. Such support may include—

(i) With respect to a prospective teacher or a mentor, release time for such individual's participation;

(ii) With respect to a faculty member, receiving course workload credit and compensation for time teaching in the eligible partnership's activities; and

(iii) With respect to a mentor, a stipend, which may include bonus, differential, incentive, or performance pay, based on the mentor's extra skills and responsibilities.

(d) Induction programs for new teachers. Creating an induction program for new teachers or, in the case of an ECE program, providing mentoring or coaching for new early childhood educators.

(e) Support and training for participants in ECE programs. In the case of an eligible partnership focusing on early childhood educator preparation, implementing initiatives that increase compensation for early childhood educators who attain associate or baccalaureate degrees in ECE.

(f) Teacher recruitment. Developing and implementing effective mechanisms (which may include alternative routes to State certification of teachers) to ensure that the eligible partnership is able to recruit qualified individuals to become teachers who meet the applicable State certification and licensure requirements, including any requirements for certification obtained through alternative routes to certification, or, with regard to special education teachers, the qualifications described in section 612(a)(14)(C) of the IDEA through the activities of the eligible partnership, which may include an emphasis on recruiting into the teaching profession—

(1) Individuals from underrepresented populations;

(2) Individuals to teach in rural communities and teacher shortage areas, including mathematics, science, special education, and the instruction of limited English proficient students; and

(3) Mid-career professionals from other occupations, former military personnel, and recent college graduates with a record of academic distinction.

(g) Literacy training. Strengthening the literacy teaching skills of prospective and, as applicable, new elementary school and secondary school teachers—

(1) To implement literacy programs that incorporate the essential components of reading instruction;

(2) To use screening, diagnostic, formative, and summative assessments to determine students' literacy levels, difficulties, and growth in order to improve classroom instruction and improve student reading and writing skills;

(3) To provide individualized, intensive, and targeted literacy instruction for students with deficiencies in literacy skills; and

(4) To integrate literacy skills in the classroom across subject areas.

Absolute Priority 2—Partnership Grants for the Establishment of Effective Teaching Residency Programs

I. In general. Under this priority, an eligible partnership must carry out an effective teaching residency program that includes all of the following activities:

(a) Supporting a teaching residency program described in paragraph II for high-need subjects and areas, as determined by the needs of the high-need LEA in the partnership.

(b) Placing graduates of the teaching residency program in cohorts that facilitate professional collaboration, both among graduates of the teaching residency program and between such graduates and mentor teachers in the receiving school.

(c) Ensuring that teaching residents who participate in the teaching residency program receive—

(1) Effective pre-service preparation as described in paragraph II;

(2) Teacher mentoring;

(3) Support required through the induction program as the teaching residents enter the classroom as new teachers; and

(4) The preparation described below:

(i) Incorporate year-long opportunities for enrichment, including—

(A) Clinical learning in classrooms in high-need schools served by the high-need LEA in the eligible partnership, and identified by the eligible partnership; and

(B) Closely supervised interaction between prospective teachers and faculty, experienced teachers, principals, other administrators, and school leaders at ECE programs (as applicable), elementary schools, or secondary schools, and providing support for such interaction.

(ii) Integrate pedagogy and classroom practice and promote effective teaching skills in academic content areas.

(iii) Provide high-quality teacher mentoring.

II. Teaching Residency Programs.

(a) Establishment and design. A teaching residency program under this priority is a program based upon models of successful teaching residencies that serves as a mechanism to prepare teachers for success in the high-need schools in the eligible partnership, and must be designed to include the following characteristics of successful programs:

(1) The integration of pedagogy, classroom practice, and teacher mentoring.

(2) Engagement of teaching residents in rigorous graduate-level course work leading to a master's degree while undertaking a guided teaching apprenticeship.

(3) Experience and learning opportunities alongside a trained and experienced mentor teacher—

(i) Whose teaching must complement the residency program so that classroom clinical practice is tightly aligned with coursework;

(ii) Who must have extra responsibilities as a teacher leader of the teaching residency program, as a mentor for residents, and as a teacher coach during the induction program for new teachers; and for establishing, within the program, a learning community in which all individuals are expected to continually improve their capacity to advance student learning; and

(iii) Who may be relieved from teaching duties as a result of such additional responsibilities.

(4) The establishment of clear criteria for the selection of mentor teachers based on measures of teacher effectiveness and the appropriate subject area knowledge. Evaluation of teacher effectiveness must be based on, but not limited to, observations of the following—

(i) Planning and preparation, including demonstrated knowledge of content, pedagogy, and assessment, including the use of formative and diagnostic assessments to improve student learning.

(ii) Appropriate instruction that engages students with different learning styles.

(iii) Collaboration with colleagues to improve instruction.

(iv) Analysis of gains in student learning, based on multiple measures that are valid and reliable and that, when feasible, may include valid, reliable, and objective measures of the influence of teachers on the rate of student academic progress.

(v) In the case of mentor candidates who will be mentoring new or prospective literacy and mathematics coaches or instructors, appropriate skills in the essential components of reading instruction, teacher training in literacy instructional strategies across core subject areas, and teacher training in mathematics instructional strategies, as appropriate.

(5) Grouping of teaching residents in cohorts to facilitate professional collaboration among such residents.

(6) The development of admissions goals and priorities—

(i) That are aligned with the hiring objectives of the LEA partnering with the program, as well as the instructional initiatives and curriculum of such agency, in exchange for a commitment by such agency to hire qualified graduates from the teaching residency program; and

(ii) Which may include consideration of applicants who reflect the communities in which they will teach as well as consideration of individuals from underrepresented populations in the teaching profession.

(7) Support for residents, once the teaching residents are hired as teachers of record, through an induction program, professional development, and networking opportunities to support the residents through not less than the residents' first two years of teaching.

(b) Selection of individuals as teacher residents.

(1) Eligible individual. In order to be eligible to be a teacher resident in a teaching residency program under this priority, an individual must—

(i) Be a recent graduate of a four-year IHE or a mid-career professional from outside the field of education possessing strong content knowledge or a record of professional accomplishment; and

(ii) Submit an application to the teaching residency program.

(2) Selection criteria for teaching residency program. An eligible partnership carrying out a teaching residency program under this priority must establish criteria for the selection of eligible individuals to participate in the teaching residency program based on the following characteristics—

(i) Strong content knowledge or record of accomplishment in the field or subject area to be taught.

(ii) Strong verbal and written communication skills, which may be demonstrated by performance on appropriate tests.

(iii) Other attributes linked to effective teaching, which may be determined by interviews or performance assessments, as specified by the eligible partnership.

(c) Stipends or salaries; applications; agreements; repayments.

(1) Stipends or salaries. A teaching residency program under this priority must provide a one-year living stipend or salary to teaching residents during the teaching residency program.

(2) Applications for stipends or salaries. Each teacher residency candidate desiring a stipend or salary during the period of residency must submit an application to the eligible partnership at such time, and containing such information and assurances, as the eligible partnership may require.

(3) Agreements to serve. Each application submitted under paragraph II-(c)(2) of this priority must contain or be accompanied by an agreement that the applicant will—

(i) Serve as a full-time teacher for a total of not less than three academic years immediately after successfully completing the teaching residency program;

(ii) Fulfill the requirement under paragraph II-(c)(3)(i) of this priority by teaching in a high-need school served by the high-need LEA in the eligible partnership and teach a subject or area that is designated as high need by the partnership;

(iii) Provide to the eligible partnership a certificate, from the chief administrative officer of the LEA in which the resident is employed, of the employment required under paragraph II-(c)(3)(i) and (ii) of this priority at the beginning of, and upon completion of, each year or partial year of service;

(iv) Meet the applicable State certification and licensure requirements, including any requirements for certification obtained through alternative routes to certification, or, with regard to special education teachers, the qualifications described in section 612(a)(14)(C) of the IDEA, when the applicant begins to fulfill the service obligation under paragraph II-(c)(3) of this priority; and

(v) Comply with the requirements set by the eligible partnership under paragraph II-(d) of this priority if the applicant is unable or unwilling to complete the service obligation required by paragraph II-(c)(3).

(d) Repayments.

(1) In general. A grantee carrying out a teaching residency program under this priority must require a recipient of a stipend or salary under paragraph II-(c)(1) of this priority who does not complete, or who notifies the partnership that the recipient intends not to complete, the service obligation required by paragraph II-(c)(3) of this priority to repay such stipend or salary to the eligible partnership, together with interest, at a rate specified by the partnership in the agreement, and in accordance with such other terms and conditions specified by the eligible partnership, as necessary.

(2) Other terms and conditions. Any other terms and conditions specified by the eligible partnership may include reasonable provisions for pro-rata repayment of the stipend or salary described in paragraph II-(c)(1) of this priority or for deferral of a teaching resident's service obligation required by paragraph II-(c)(3) of this priority, on grounds of health, incapacitation, inability to secure employment in a school served by the eligible partnership, being called to active duty in the Armed Forces of the United States, or other extraordinary circumstances.

(3) Use of repayments. An eligible partnership must use any repayment received under this paragraph (d) of this priority to carry out additional activities that are consistent with the purpose of this priority.

Absolute Priority 3—Partnership Grants for the Development of Leadership Programs in Conjunction With the Preparation of Teachers Under Absolute Priority 1

Under this priority the Secretary gives priority to applications from eligible partnerships that propose to carry out an effective school leadership program that will prepare individuals enrolled or preparing to enroll in those programs for careers as superintendents, principals, ECE program directors, or other school leaders (including individuals preparing to work in LEAs located in rural areas who may perform multiple duties in addition to the role of a school leader).

An eligible partnership may carry out the school leadership program either in the partner high-need LEA or in further partnership with an LEA located in a rural area.

The school leadership program carried out under this priority must include the following activities:

(a) Preparation of school leaders. In preparing school leaders, the school leadership program must include the following activities:

(1) Promoting strong leadership skills and, as applicable, techniques for school leaders to effectively—

(i) Create and maintain a data-driven, professional learning community within the leader's schools;

(ii) Provide a climate conducive to the professional development of teachers, with a focus on improving student achievement and the development of effective instructional leadership skills;

(iii) Understand the teaching and assessment skills needed to support successful classroom instruction and to use data to evaluate teacher instruction and drive teacher and student learning;

(iv) Manage resources and school time to improve student academic achievement and ensure the school environment is safe;

(v) Engage and involve parents, community members, the LEA, businesses, and other community leaders, to leverage additional resources to improve student academic achievement; and

(vi) Understand how students learn and develop in order to increase academic achievement for all students.

(2) Developing and improving a sustained and high-quality preservice clinical education program to further develop the leadership skills of all prospective school leaders involved in the program. This clinical education program must do the following:

(i) Incorporate year-long opportunities for enrichment, including—

(A) Clinical learning in high-need schools served by the high-need LEA or an LEA located in a rural area in the eligible partnership and identified by the eligible partnership; and

(B) Closely supervised interaction between prospective school leaders and faculty, new and experienced teachers, and new and experienced school leaders, in those high-need schools.

(ii) Integrate pedagogy and practice and promote effective leadership skills, meeting the unique needs of urban, rural, or geographically isolated communities, as applicable.

(iii) Provide for mentoring of new school leaders.

(3) Creating an induction program for new school leaders.

(4) Ensuring that individuals who participate in the school leadership program receive—

(i) Effective preservice preparation as described in paragraph (a)(2) of this priority;

(ii) Mentoring; and

(iii) If applicable, full State certification or licensure to become a school leader.

(5) Developing and implementing effective mechanisms to ensure that the eligible partnership is able to recruit qualified individuals to become school leaders through activities that may include an emphasis on recruiting into school leadership professions—

(i) Individuals from underrepresented populations;

(ii) Individuals to serve as superintendents, principals, or other school administrators in rural and geographically isolated communities and school leader shortage areas; and

(iii) Mid-career professionals from other occupations, former military personnel, and recent college graduates with a record of academic distinction.

(b) In order to be eligible for the school leadership program under this priority, an individual must be enrolled in or preparing to enroll in an IHE, and must—

(1) Be a—

(i) Recent graduate of an IHE;

(ii) Mid-career professional from outside the field of education with strong content knowledge or a record of professional accomplishment;

(iii) Current teacher who is interested in becoming a school leader; or

(iv) School leader who is interested in becoming a superintendent; and

(2) Submit an application to the leadership program.

Absolute Priority 4—Partnership Grants for the Development of Leadership Programs in Conjunction With the Establishment of an Effective Teaching Residency Program Under Absolute Priority 2

Under this priority the Secretary gives priority to applications from eligible partnerships that propose to carry out an effective school leadership program that will prepare individuals enrolled or preparing to enroll in those programs for careers as superintendents, principals, ECE program directors, or other school leaders (including individuals preparing to work in LEAs located in rural areas who may perform multiple duties in addition to the role of a school leader).

An eligible partnership may carry out the school leadership program either in the partner high-need LEA or in further partnership with an LEA located in a rural area.

The school leadership program carried out under this priority must include the following activities:

(a) Preparation of school leaders. In preparing school leaders, the school leadership program must include the following activities:

(1) Promoting strong leadership skills and, as applicable, techniques for school leaders to effectively—

(i) Create and maintain a data-driven, professional learning community within the leader's schools.

(ii) Provide a climate conducive to the professional development of teachers, with a focus on improving student achievement and the development of effective instructional leadership skills;

(iii) Understand the teaching and assessment skills needed to support successful classroom instruction and to use data to evaluate teacher and drive teacher and student learning;

(iv) Manage resources and school time to improve student academic achievement and ensure a safe school environment;

(v) Engage and involve parents, community members, the LEA, businesses, and other community leaders, to leverage additional resources to improve student academic achievement; and

(vi) Understand how students learn and develop in order to increase academic achievement for all students.

(2) Developing and improving a sustained and high-quality preservice clinical education program to further develop the leadership skills of all prospective school leaders involved in the program. This clinical education program must do the following:

(i) Incorporate year-long opportunities for enrichment, including—

(A) Clinical learning in high-need schools served by the high-need LEA or an LEA located in a rural area in the eligible partnership and identified by the eligible partnership; and

(B) Closely supervised interaction between prospective school leaders and faculty, new and experienced teachers, and new and experienced school leaders, in those high-need schools.

(ii) Integrate pedagogy and practice and promote effective leadership skills, meeting the unique needs of urban, rural, or geographically isolated communities, as applicable.

(iii) Provide for mentoring of new school leaders.

(3) Creating an induction program for new school leaders.

(4) Ensuring that individuals who participate in the school leadership program receive—

(i) Effective preservice preparation as described in paragraph (a)(2) of this priority.

(ii) Mentoring; and

(iii) If applicable, full State certification or licensure to become a school leader.

(5) Developing and implementing effective mechanisms to ensure that the eligible partnership is able to recruit qualified individuals to become school leaders through activities that may include an emphasis on recruiting into school leadership professions—

(i) Individuals from underrepresented populations.

(ii) Individuals to serve as superintendents, principals, or other school administrators in rural and geographically isolated communities and school leader shortage areas; and

(iii) Mid-career professionals from other occupations, former military personnel, and recent college graduates with a record of academic distinction.

(b) In order to be eligible for the school leadership program under this priority, an individual must be enrolled in or preparing to enroll in an IHE, and must—

(1) Be a—

(i) Recent graduate of an IHE;

(ii) Mid-career professional from outside the field of education with strong content knowledge or a record of professional accomplishment;

(iii) Current teacher who is interested in becoming a school leader; or

(iv) School leader who is interested in becoming a superintendent; and

(2) Submit an application to the leadership program.

Competitive Preference Priorities: For FY 2022 and any subsequent year in which we make awards from the list of unfunded applications from this competition, these priorities are competitive preference priorities. Under 34 CFR 75.105(c)(2)(i), we will award up to an additional four points to an application depending on how well the application addresses Competitive Preference Priority 1, we will award up to an additional three points to an application depending on how well the application addresses Competitive Preference Priority 2, we will award up to an additional two points to an application depending on how well the application addresses Competitive Preference Priority 3, and we will award up to an additional two points to an application depending on how well the application addresses Competitive Preference Priority 4, for a maximum of eleven additional competitive preference points.

If an applicant chooses to address one or more of the competitive preference priorities, the project narrative section of its application must identify its response to the competitive preference priorities it chooses to address. We will only review responses to the competitive preference priorities for those applications that, after review and scoring for the absolute priority and selection criteria, are within potential funding range.

These priorities are:

Competitive Preference Priority 1—Increasing Educator Diversity (Up to 4 Points)

Under this priority, applicants must develop projects that are designed to improve the recruitment, outreach, preparation, support, development, and retention of a diverse educator workforce through adopting, implementing, or expanding one or both of the following:

(a) High-quality, comprehensive teacher preparation programs in Historically Black Colleges and Universities (eligible institutions under part B of title III and subpart 4 of part A title VII of the HEA), Hispanic Serving Institutions (eligible institutions under section 502 of the HEA), Tribal Colleges and Universities (eligible institutions under section 316 of the HEA), or other Minority Serving Institutions (eligible institutions under title III and title V of the HEA) that include one year of high-quality clinical experiences (prior to becoming the teacher of record) in high-need schools (as defined in this notice) and that incorporate best practices for attracting, supporting, graduating, and placing underrepresented teacher candidates.

(b) Reforms to teacher preparation programs to improve the diversity of teacher candidates, including changes to ensure underrepresented teacher candidates are fully represented in program admission, completion, placement, and retention as educators.

Competitive Preference Priority 2—Supporting a Diverse Educator Workforce and Professional Growth To Strengthen Student Learning (Up to 3 Points)

Projects that are designed to increase the proportion of well-prepared, diverse, and effective educators serving students, with a focus on underserved students, through increasing the number of teachers with certification or dual certification in a shortage area, or advanced certifications from nationally recognized professional organizations.

Competitive Preference Priority 3—Meeting Student Social, Emotional, and Academic Needs (Up to 2 Points)

Projects that are designed to improve students' social, emotional, academic, and career development, with a focus on underserved students, through creating a positive, inclusive, and identity-safe climate at institutions of higher education, through one or more of the following activities:

(a) Fostering a sense of belonging and inclusion for underserved students.

(b) Implementing evidence-based practices for advancing student success for underserved students.

Competitive Preference Priority 4—Promoting Equity in Student Access to Educational Resources and Opportunities (Up to 2 Points)

Under this priority, an applicant must demonstrate that the applicant proposes a project designed to promote educational equity and adequacy in resources and opportunity for underserved students—

(a) In one or more of the following educational settings:

(1) Early learning programs.

(2) Elementary school.

(3) Middle school.

(4) High school.

(5) Career and technical education programs.

(6) Out-of-school-time settings.

(7) Alternative schools and programs.

(b) That examines the sources of inequity and inadequacy and implement responses, and that may include pedagogical practices in educator preparation programs and professional development programs that are inclusive with regard to race, ethnicity, culture, language, and disability status so that educators are better prepared to create inclusive, supportive, equitable, unbiased, and identity-safe learning environments for their students.

Invitational Priority: For FY 2022 and any subsequent year in which we make awards from the list of unfunded applications from this competition, this priority is an invitational priority. Under 34 CFR 75.105(c)(1) we do not give an application that meets this invitational priority a competitive or absolute preference over other applications.

This priority is:

Partnership Grants for the Establishment of Grow Your Own Programs

Projects that establish Grow Your Own programs that are designed to address shortages of teachers in high-need areas, schools, and/or geographic areas, or shortages of school leaders in high-need schools, and increase the diversity of qualified individuals entering the teacher, principal, or other school leader workforce.

Definitions: The definitions for “Arts and sciences,” “Children from low income families,” “Early childhood educator,” “Essential components of reading instruction,” “Exemplary teacher,” “High-need early childhood education (ECE) program,” “High-need local educational agency (LEA),” “High-need school,” “Highly competent,” “Induction program,” “Limited English proficient,” “Partner institution,” “Principles of scientific research,” “Scientifically valid research,” “Teacher mentoring,” “Teaching residency program,” and “Teaching skills” are from section 200 of the HEA (20 U.S.C. 1021). The definition of “Charter school” is from section 4310(2) of the ESEA (20 U.S.C. 7221i). The definitions of “Educational service agency,” “Parent,” and “Professional development” are from section 8101 of the ESEA (20 U.S.C. 7801). The definitions for “Demonstrates a rationale,” “Evidence-based,” “Experimental study,” “Logic model,” “Moderate evidence,” “Project component,” “Promising evidence,” “Quasi-experimental design study,” “Relevant outcome,” “Strong evidence,” and “What Works Clearinghouse Handbook (WWC Handbook)” are from 34 CFR 77.1. The definitions of “children or students with disabilities,” “disconnected youth,” “early learning,” “educator,” “Military- or veteran-connected student,” “and “Underserved students” are from the Supplemental Priorities.

Arts and sciences means—

(1) When referring to an organizational unit of an IHE, any academic unit that offers one or more academic majors in disciplines or content areas corresponding to the academic subject matter areas in which teachers provide instruction; and

(2) When referring to a specific academic subject area, the disciplines or content areas in which academic majors are offered by the arts and sciences organizational unit.

Charter school means a public school that—

(1) In accordance with a specific State statute authorizing the granting of charters to schools, is exempt from significant State or local rules that inhibit the flexible operation and management of public schools, but not from any rules relating to the other requirements of this paragraph;

(2) Is created by a developer as a public school, or is adapted by a developer from an existing public school, and is operated under public supervision and direction;

(3) Operates in pursuit of a specific set of educational objectives determined by the school's developer and agreed to by the authorized public chartering agency;

(4) Provides a program of elementary or secondary education, or both;

(5) Is nonsectarian in its programs, admissions policies, employment practices, and all other operations, and is not affiliated with a sectarian school or religious institution;

(6) Does not charge tuition;

(7) Complies with the Age Discrimination Act of 1975 (42 U.S.C. 6101 et seq.), title VI of the Civil Rights Act of 1964 (42 U.S.C. 2000d et seq.), title IX of the Education Amendments of 1972 (20 U.S.C. 1681 et seq.), section 504 of the Rehabilitation Act of 1973 (29 U.S.C. 794), the Americans with Disabilities Act of 1990 (42 U.S.C. 12101 et seq.), 20 U.S.C. 1232g (commonly referred to as the “Family Educational Rights and Privacy Act of 1974”), and part B of the IDEA (20 U.S.C. 1411 et seq.);

(8) Is a school to which parents choose to send their children, and that—

(i) Admits students on the basis of a lottery, consistent with 20 U.S.C. 7221b(c)(3)(A) if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in clause (1);

(9) Agrees to comply with the same Federal and State audit requirements as do other elementary schools and secondary schools in the State, unless such State audit requirements are waived by the State;

(10) Meets all applicable Federal, State, and local health and safety requirements;

(11) Operates in accordance with State law;

(12) Has a written performance contract with the authorized public chartering agency in the State that includes a description of how student performance will be measured in charter schools pursuant to State assessments that are required of other schools and pursuant to any other assessments mutually agreeable to the authorized public chartering agency and the charter school; and

(13) May serve students in early childhood education programs or postsecondary students.

Children from low-income families means children described in section 1124(c)(1)(A) of the Elementary and Secondary Education Act of 1965.

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

Early childhood educator means an individual with primary responsibility for the education of children in an ECE program.

Early learning means any (a) State-licensed or State-regulated program or provider, regardless of setting or funding source, that provides early care and education for children from birth to kindergarten entry, including, but not limited to, any program operated by a child care center or in a family child care home; (b) program funded by the Federal Government or State or local educational agencies (including any IDEA-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

Educational service agency means a regional public multiservice agency authorized by State statute to develop, manage, and provide services or programs to LEAs.

Educator means an individual who is an early learning educator, teacher, principal or other school leader, specialized instructional support personnel (e.g., school psychologist, counselor, school social worker, early intervention service personnel), paraprofessional, or faculty.

Essential components of reading instruction means explicit and systematic instruction in—

(1) Phonemic awareness;

(2) Phonics;

(3) Vocabulary development;

(4) Reading fluency, including oral reading skills; and

(5) Reading comprehension strategies.

Evidence-based means the proposed project component is supported by one or more of strong evidence, moderate evidence, promising evidence, or evidence that demonstrates a rationale.

Exemplary teacher means a teacher who—

(1) Is a highly qualified teacher such as a master teacher;

(2) Has been teaching for at least five years in a public or private school or IHE;

(3) Is recommended to be an exemplary teacher by administrators and other teachers who are knowledgeable about the individual's performance;

(4) Is currently teaching and based in a public school; and

(5) Assists other teachers in improving instructional strategies, improves the skills of other teachers, performs teacher mentoring, develops curricula, and offers other professional development.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(1) A randomized controlled trial employs random assignment of, for example, students, teachers, classrooms, or schools to receive the project component being evaluated (the treatment group) or not to receive the project component (the control group).

(2) A regression discontinuity design study assigns the project component being evaluated using a measured variable (e.g., assigning students reading below a cutoff score to tutoring or developmental education classes) and controls for that variable in the analysis of outcomes.

(3) A single-case design study uses observations of a single case (e.g., a student eligible for a behavioral intervention) over time in the absence and presence of a controlled treatment manipulation to determine whether the outcome is systematically related to the treatment.

High-need early childhood education (ECE) program means an ECE program serving children from low-income families that is located within the geographic area served by a high-need LEA.

High-need local educational agency (LEA) means an LEA—

(1)(i) For which not less than 20 percent of the children served by the agency are children from low-income families;

(ii) That serves not fewer than 10,000 children from low-income families;

(iii) That meets the eligibility requirements for funding under the Small, Rural School Achievement (SRSA) program under section 5211(b) of the ESEA; or

(iv) That meets eligibility requirements for funding under the Rural and Low-Income School (RLIS) program under section 5221(b) of the ESEA (20 U.S.C. 7351(b)); and—

(2)(i) For which there is a high percentage of teachers not teaching in the academic subject areas or grade levels in which the teachers were trained to teach; or

(ii) For which there is a high teacher turnover rate or a high percentage of teachers with emergency, provisional, or temporary certification or licensure.

Note: Information on how an applicant may demonstrate that a partner LEA meets this definition is included in the application package.

High-need school means a school that, based on the most recent data available, meets one or both of the following:

(1) The school is in the highest quartile of schools in a ranking of all schools served by an LEA, ranked in descending order by percentage of students from low-income families enrolled in such schools, as determined by the LEA based on one of the following measures of poverty:

(i) The percentage of students aged 5 through 17 in poverty counted in the most recent census data approved by the Secretary.

(ii) The percentage of students eligible for a free or reduced-price school lunch under the Richard B. Russell National School Lunch Act.

(iii) The percentage of students in families receiving assistance under the State program funded under part A of title IV of the Social Security Act.

(iv) The percentage of students eligible to receive medical assistance under the Medicaid program.

(v) A composite of two or more of the measures described in paragraphs (1)(i) through (1)(iv).

(2) In the case of—

(i) An elementary school, the school serves students not less than 60 percent of whom are eligible for a free or reduced-price school lunch under the Richard B. Russell National School Lunch Act; or

(ii) Any other school that is not an elementary school, the other school serves students not less than 45 percent of whom are eligible for a free or reduced-price school lunch under the Richard B. Russell National School Lunch Act.

(3) The Secretary may, upon approval of an application submitted by an eligible partnership seeking a grant under title II of the HEA, designate a school that does not qualify as a high-need school under this definition, as a high-need school for the purpose of this competition. The Secretary must base the approval of an application for designation of a school under this clause on a consideration of the information required under section 200(11)(B)(ii) of the HEA and may also take into account other information submitted by the eligible partnership.

Note: Information on how an applicant may demonstrate that a partner school meets this definition is included in the application package.

Highly competent, when used with respect to an early childhood educator, means an educator—

(1) With specialized education and training in development and education of young children from birth until entry into kindergarten;

(2) With—

(i) A baccalaureate degree in an academic major in the arts and sciences; or

(ii) An associate's degree in a related educational area; and

(3) Who has demonstrated a high level of knowledge and use of content and pedagogy in the relevant areas associated with quality early childhood education.

Induction program means a formalized program for new teachers during not less than the teachers' first two years of teaching that is designed to provide support for, and improve the professional performance and advance the retention in the teaching field of, beginning teachers. Such program must promote effective teaching skills and must include the following components:

(1) High-quality teacher mentoring.

(2) Periodic, structured time for collaboration with teachers in the same department or field, including mentor teachers, as well as time for information-sharing among teachers, principals, administrators, other appropriate instructional staff, and participating faculty in the partner institution.

(3) The application of empirically-based practice and scientifically valid research on instructional practices.

(4) Opportunities for new teachers to draw directly on the expertise of teacher mentors, faculty, and researchers to support the integration of empirically-based practice and scientifically valid research with practice.

(5) The development of skills in instructional and behavioral interventions derived from empirically-based practice and, where applicable, scientifically valid research.

(6) Faculty who—

(i) Model the integration of research and practice in the classroom; and

(ii) Assist new teachers with the effective use and integration of technology in the classroom.

(7) Interdisciplinary collaboration among exemplary teachers, faculty, researchers, and other staff who prepare new teachers with respect to the learning process and the assessment of learning.

(8) Assistance with the understanding of data, particularly student achievement data, and the applicability of such data in classroom instruction.

(9) Regular and structured observation and evaluation of new teachers by multiple evaluators, using valid and reliable measures of teaching skills.

Limited English proficient,¹⁰ when used with respect to an individual, means an individual—

¹⁰ ESEA uses the term “English learner”; however, the term cross-referenced from the HEA is “limited English proficient.”

(1) Who is aged 3 through 21;

(2) Who is enrolled or preparing to enroll in an elementary school or secondary school;

(3)(i) Who was not born in the United States or whose native language is a language other than English;

(ii)(A) Who is a Native American or Alaska Native, or a native resident of the outlying areas; and

(B) Who comes from an environment where a language other than English has had a significant impact on the individual's level of English language proficiency; or

(iii) Who is migratory, whose native language is a language other than English, and who comes from an environment where a language other than English is dominant; and

(4) Whose difficulties in speaking, reading, writing, or understanding the English language may be sufficient to deny the individual—

(i) The ability to meet the challenging State academic standards;

(ii) The ability to successfully achieve in classrooms where the language of instruction is English; or

(iii) The opportunity to participate fully in society.

Logic model (also referred to as a theory of action) means a framework that identifies key project components of the proposed project (i.e., the active “ingredients” that are hypothesized to be critical to achieving the relevant outcomes) and describes the theoretical and operational relationships among the key project components and relevant outcomes.

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Moderate evidence means that there is evidence of effectiveness of a key project component in improving a relevant outcome for a sample that overlaps with the populations or settings proposed to receive that component, based on a relevant finding from one of the following:

(1) A practice guide prepared by the WWC using version 2.1, 3.0, 4.0, or 4.1 of the WWC Handbooks reporting a “strong evidence base” or “moderate evidence base” for the corresponding practice guide recommendation;

(2) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(3) A single experimental study or quasi-experimental design study reviewed and reported by the WWC using version 2.1, 3.0, 4.0, or 4.1 of the WWC Handbooks, or otherwise assessed by the Department using version 4.1 of the WWC Handbooks, as appropriate, and that—

(i) Meets WWC standards with or without reservations;

(ii) Includes at least one statistically significant and positive (i.e., favorable) effect on a relevant outcome;

(iii) Includes no overriding statistically significant and negative effects on relevant outcomes reported in the study or in a corresponding WWC intervention report prepared under version 2.1, 3.0, 4.0, or 4.1 of the WWC Handbooks; and

(iv) Is based on a sample from more than one site (e.g., State, county, city, school district, or postsecondary campus) and includes at least 350 students or other individuals across sites. Multiple studies of the same project component that each meet requirements in paragraphs (3)(i), (ii), and (iii) of this definition may together satisfy this requirement.

Parent includes a legal guardian or other person standing in loco parentis (such as a grandparent or stepparent with whom the child lives, or a person who is legally responsible for the child's welfare).

Partner institution means an IHE, which may include a two-year IHE offering a dual program with a four-year IHE, participating in an eligible partnership that has a teacher preparation program—

(1) Whose graduates exhibit strong performance on State-determined qualifying assessments for new teachers through—

(i) Demonstrating that 80 percent or more of the graduates of the program who intend to enter the field of teaching have passed all of the applicable State qualification assessments for new teachers, which must include an assessment of each prospective teacher's subject matter knowledge in the content area in which the teacher intends to teach; or

(ii) Being ranked among the highest-performing teacher preparation programs in the State as determined by the State—

(A) Using criteria consistent with the requirements for the State report card under section 205(b) of the HEA (20 U.S.C. 1022d(b)) before the first publication of the report card; and

(B) Using the State report card on teacher preparation required under section 205(b) (20 U.S.C. 1022d(b)), after the first publication of such report card and for every year thereafter; and

(2) That requires—

(i) Each student in the program to meet high academic standards or demonstrate a record of success, as determined by the institution (including prior to entering and being accepted into a program), and participate in intensive clinical experience;

(ii) Each student in the program preparing to become a teacher who meets the applicable State certification and licensure requirements, including any requirements for certification obtained through alternative routes to certification, or, with regard to special education teachers, the qualifications described in section 612(a)(14)(C) of the IDEA (20 U.S.C. 1412(a)(14)(C)); and

(iii) Each student in the program preparing to become an early childhood educator to meet degree requirements, as established by the State, and become highly competent.

Principles of scientific research means principles of research that—

(1) Apply rigorous, systematic, and objective methodology to obtain reliable and valid knowledge relevant to education activities and programs;

(2) Present findings and make claims that are appropriate to, and supported by, the methods that have been employed; and

(3) Include, appropriate to the research being conducted—

(i) Use of systematic, empirical methods that draw on observation or experiment;

(ii) Use of data analyses that are adequate to support the general findings;

(iii) Reliance on measurements or observational methods that provide reliable and generalizable findings;

(iv) Strong claims of causal relationships, only with research designs that eliminate plausible competing explanations for observed results, such as, but not limited to, random-assignment experiments;

(v) Presentation of studies and methods in sufficient detail and clarity to allow for replication or, at a minimum, to offer the opportunity to build systematically on the findings of the research;

(vi) Acceptance by a peer-reviewed journal or critique by a panel of independent experts through a comparably rigorous, objective, and scientific review; and

(vii) Consistency of findings across multiple studies or sites to support the generality of results and conclusions.

Professional development means activities that—

(1) Are an integral part of school and LEA strategies for providing educators (including teachers, principals, other school leaders, specialized instructional support personnel, paraprofessionals, and, as applicable, early childhood educators) with the knowledge and skills necessary to enable students to succeed in a well-rounded education and to meet the challenging State academic standards; and

(2) Are sustained (not stand-alone, one-day, or short term workshops), intensive, collaborative, job-embedded, data-driven, and classroom-focused, and may include activities that—

(i) Improve and increase teachers'—

(A) Knowledge of the academic subjects the teachers teach;

(B) Understanding of how students learn; and

(C) Ability to analyze student work and achievement from multiple sources, including how to adjust instructional strategies, assessments, and materials based on such analysis;

(ii) Are an integral part of broad schoolwide and districtwide educational improvement plans;

(iii) Allow personalized plans for each educator to address the educator's specific needs identified in observation or other feedback;

(iv) Improve classroom management skills;

(v) Support the recruitment, hiring, and training of effective teachers, including teachers who became certified through State and local alternative routes to certification;

(vi) Advance teacher understanding of—

(A) Effective instructional strategies that are evidence-based; and

(B) Strategies for improving student academic achievement or substantially increasing the knowledge and teaching skills of teachers;

(vii) Are aligned with, and directly related to, academic goals of the school or LEA;

(viii) Are developed with extensive participation of teachers, principals, other school leaders, parents, representatives of Indian Tribes (as applicable), and administrators of schools to be served under the ESEA;

(ix) Are designed to give teachers of English learners, and other teachers and instructional staff, the knowledge and skills to provide instruction and appropriate language and academic support services to those children, including the appropriate use of curricula and assessments;

(x) To the extent appropriate, provide training for teachers, principals, and other school leaders in the use of technology (including education about the harms of copyright piracy), so that technology and technology applications are effectively used the classroom to improve teaching and learning in the curricula and academic subjects in which the teachers teach;

(xi) As a whole, are regularly evaluated for their impact on increased teacher effectiveness and improved student academic achievement, with the findings of the evaluations used to improve the quality of professional development;

(xii) Are designed to give teachers of children with disabilities or children with developmental delays, and other teachers and instructional staff, the knowledge and skills to provide instruction and academic support services, to those children, including positive behavioral interventions and supports, multi-tier system of supports, and use of accommodations;

(xiii) Include instruction in the use of data and assessments to inform and instruct classroom practice;

(xiv) Include instruction in ways that teachers, principals, other school leaders, specialized instructional support personnel, and school administrators may work more effectively with parents and families;

(xv) Involve the forming of partnerships with IHEs, including, as applicable, Tribal Colleges and Universities as defined in section 316(b) of the HEA (20 U.S.C. 1059c(b)), to establish school-based teacher, principal, and other school leader training programs that provide prospective teachers, novice teachers, principals, and other school leaders with an opportunity to work under the guidance of experienced teachers, principals, other school leaders, and faculty of such institutions;

(xvi) Create programs to enable paraprofessionals (assisting teachers employed by an LEA receiving assistance under part A of title I of the ESEA) to obtain the education necessary for those paraprofessionals to become certified and licensed teachers;

(xvii) Provide follow-up training to teachers who have participated in activities described in this paragraph that are designed to ensure that the knowledge and skills learned by the teachers are implemented in the classroom; and

(xviii) Where practicable, provide jointly for school staff and other ECE program providers, to address the transition to elementary school, including issues related to school readiness.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(1) A practice guide prepared by WWC reporting a “strong evidence base” or “moderate evidence base” for the corresponding practice guide recommendation;

(2) An intervention report prepared by the WWC reporting a “positive effect” or “potentially positive effect” on a relevant outcome with no reporting of a “negative effect” or “potentially negative effect” on a relevant outcome; or

(3) A single study assessed by the Department, as appropriate, that—

(i) Is an experimental study, a quasi-experimental design study, or a well-designed and well-implemented correlational study with statistical controls for selection bias (e.g., a study using regression methods to account for differences between a treatment group and a comparison group); and

(ii) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Scientifically valid research means applied research, basic research, and field-initiated research in which the rationale, design, and interpretation are soundly developed in accordance with principles of scientific research.

Strong evidence means that there is evidence of the effectiveness of a key project component in improving a relevant outcome for a sample that overlaps with the populations and settings proposed to receive that component, based on a relevant finding from one of the following:

(1) A practice guide prepared by the WWC using version 2.1, 3.0, 4.0, or 4.1 of the WWC Handbooks reporting a “strong evidence base” for the corresponding practice guide recommendation;

(2) An intervention report prepared by the WWC using version 2.1, 3.0, 4.0, or 4.1 of the WWC Handbooks reporting a “positive effect” on a relevant outcome based on a “medium to large” extent of evidence, with no reporting of a “negative effect” or “potentially negative effect” on a relevant outcome; or

(3) A single experimental study reviewed and reported by the WWC using version 2.1, 3.0, 4.0, or 4.1 of the WWC Handbooks, or otherwise assessed by the Department using version 4.1 of the WWC Handbooks, as appropriate, and that—

(i) Meets WWC standards without reservations;

(ii) Includes at least one statistically significant and positive (i.e., favorable) effect on a relevant outcome;

(iii) Includes no overriding statistically significant and negative effects on relevant outcomes reported in the study or in a corresponding WWC intervention report prepared under version 2.1, 3.0, 4.0, or 4.1 of the WWC Handbooks; and

(iv) Is based on a sample from more than one site (e.g., State, county, city, school district, or postsecondary campus) and includes at least 350 students or other individuals across sites. Multiple studies of the same project component that each meet requirements in paragraphs (3)(i), (ii), and (iii) of this definition may together satisfy this requirement.

Teacher mentoring means the mentoring of new or prospective teachers through a program that—

(1) Includes clear criteria for the selection of teacher mentors who will provide role model relationships for mentees, which criteria must be developed by the eligible partnership and based on measures of teacher effectiveness;

(2) Provides high-quality training for such mentors, including instructional strategies for literacy instruction and classroom management (including approaches that improve the schoolwide climate for learning, which may include positive behavioral interventions and supports);

(3) Provides regular and ongoing opportunities for mentors and mentees to observe each other's teaching methods in classroom settings during the day in a high-need school in the high-need LEA in the eligible partnership;

(4) Provides paid release time for mentors, as applicable;

(5) Provides mentoring to each mentee by a colleague who teaches in the same field, grade, or subject as the mentee;

(6) Promotes empirically-based practice of, and scientifically valid research on, where applicable—

(i) Teaching and learning;

(ii) Assessment of student learning;

(iii) The development of teaching skills through the use of instructional and behavioral interventions; and

(iv) The improvement of the mentees' capacity to measurably advance student learning; and

(7) Includes—

(i) Common planning time or regularly scheduled collaboration for the mentor and mentee; and

(ii) Joint professional development opportunities.

Teaching residency program means a school-based teacher preparation program in which a prospective teacher—

(1) For one academic year, teaches alongside a mentor teacher, who is the teacher of record;

(2) Receives concurrent instruction during the year described in paragraph (1) from the partner institution, which courses may be taught by LEA personnel or residency program faculty, in the teaching of the content area in which the teacher will become certified or licensed;

(3) Acquires effective teaching skills; and

(4) Prior to completion of the program—

(i) Attains full State certification or licensure and, with respect to special education teachers, meets the qualifications described in section 612(a)(14)(C) of the IDEA (20 U.S.C. 1412(a)(14)(C)); and

(ii) Acquires a master's degree not later than 18 months after beginning the program.

Teaching skills means skills that enable a teacher to—

(1) Increase student learning, achievement, and the ability to apply knowledge;

(2) Effectively convey and explain academic subject matter;

(3) Effectively teach higher-order analytical, evaluation, problem-solving, and communication skills;

(4) Employ strategies grounded in the disciplines of teaching and learning that—

(i) Are based on empirically-based practice and scientifically valid research, where applicable, related to teaching and learning;

(ii) Are specific to academic subject matter; and

(iii) Focus on the identification of students' specific learning needs, particularly students with disabilities, students who are limited English proficient, students who are gifted and talented, and students with low literacy levels, and the tailoring of academic instruction to such needs;

(5) Conduct an ongoing assessment of student learning, which may include the use of formative assessments, performance-based assessments, project-based assessments, or portfolio assessments, that measures higher-order thinking skills (including application, analysis, synthesis, and evaluation);

(6) Effectively manage a classroom, including the ability to implement positive behavioral interventions and support strategies;

(7) Communicate and work with parents, and involve parents in their children's education; and

(8) Use, in the case of an early childhood educator, age-appropriate and developmentally appropriate strategies and practices for children in early childhood education programs.

Underserved student means a student (which may include children in early learning environments and students in K-12 programs) in one or more of the following subgroups:

(1) A student who is living in poverty or is served by schools with high concentrations of students living in poverty.

(2) A student of color.

(3) A student who is a member of a federally recognized Indian Tribe.

(4) An English learner.

(5) A child or student with a disability.

(6) A disconnected youth.

(7) A technologically unconnected youth.

(8) A migrant student.

(9) A student experiencing homelessness or housing insecurity.

(10) A lesbian, gay, bisexual, transgender, queer or questioning, or intersex (LGBTQI+) student.

(11) A student who is in foster care.

(12) A student without documentation of immigration status.

(13) A pregnant, parenting, or caregiving student.

(14) A student impacted by the justice system, including a formerly incarcerated student.

(15) A student who is the first in their family to attend postsecondary education.

(16) A student enrolling in or seeking to enroll in postsecondary education for the first time at the age of 20 or older.

(17) A student who is working full-time while enrolled in postsecondary education.

(18) A student who is enrolled in or is seeking to enroll in postsecondary education who is eligible for a Pell Grant.

(19) An adult student in need of improving their basic skills or an adult student with limited English proficiency.

(20) A student performing significantly below grade level.

(21) A military- or veteran-connected student.

For purposes of the definition of underserved student only—

Child or student with a disability means children with disabilities as defined in section 602(3) of the Individuals with Disabilities Education Act (IDEA) (20 U.S.C. 1401(3)) and 34 CFR 300.8, or students with disabilities, as defined in the Rehabilitation Act of 1973 (29 U.S.C. 705(37), 705(202)(B)); and

English learner means an individual who is an English learner as defined in section 8101(20) of the Elementary and Secondary Education Act of 1965, as amended, or an individual who is an English language learner as defined in section 203(7) of the Workforce Innovation and Opportunity Act.

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Program Authority: 20 U.S.C. 1021-1022c.

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474 (Uniform Guidance). (d) The EED NFP. (e) The Supplemental Priorities.

Note: The regulations in 34 CFR part 86 apply to IHEs only.

II. Award Information

Type of Award: Discretionary grants.

Estimated Available Funds: The Administration has requested $132,000,000 in discretionary funds for awards for the TQP program for FY 2022, of which we intend to use an estimated $35,000,000 for this competition. The actual level of funding, if any, depends on final congressional action. However, we are inviting applications to allow enough time to complete the grant process if Congress appropriates funds for this program.

Contingent upon the availability of funds and the quality of applications, we may make additional awards in subsequent years from the list of unfunded applications from this competition.

Estimated Range of Awards: $500,000-$2,000,000.

Estimated Average Size of Awards: $1,000,000 for the first year of the project. Funding for the second, third, fourth, and fifth years is subject to the availability of funds and the approval of continuation awards (see 34 CFR 75.253).

Maximum Award: We will not make an award exceeding $2,000,000 to any applicant per 12-month budget period.

Estimated Number of Awards: 25-30.

Note: The Department is not bound by any estimates in this notice.

Project Period: 60 months.

III. Eligibility Information

1. Eligible Applicants: An eligible applicant must be an “eligible partnership” as defined in section 200(6) of the HEA. The term “eligible partnership” means an entity that—

(1) Must include—

(i) A high-need LEA;

(ii) (A) A high-need school or a consortium of high-need schools served by the high-need LEA; or

(B) As applicable, a high-need ECE program;

(iii) A partner institution;

(iv) A school, department, or program of education within such partner institution, which may include an existing teacher professional development program with proven outcomes within a four-year IHE that provides intensive and sustained collaboration between faculty and LEAs consistent with the requirements of title II of the HEA; and

(v) A school or department of arts and sciences within such partner institution; and

(2) May include any of the following:

(i) The Governor of the State.

(ii) The State educational agency (SEA).

(iii) The State board of education.

(iv) The State agency for higher education.

(v) A business.

(vi) A public or private nonprofit educational organization.

(vii) An educational service agency.

(viii) A teacher organization.

(ix) A high-performing LEA, or a consortium of such LEAs, that can serve as a resource to the partnership.

(x) A charter school.

(xi) A school or department within the partner institution that focuses on psychology and human development.

(xii) A school or department within the partner institution with comparable expertise in the disciplines of teaching, learning, and child and adolescent development.

(xiii) An entity operating a program that provides alternative routes to State certification of teachers.

Note: So that the Department can confirm the eligibility of the LEA(s) that an applicant proposes to serve, applicants must include information in their applications that demonstrates that each LEA to potentially be served by the project is a “high-need LEA” (as defined in this notice). Applicants should review the application package for additional information on determining whether an LEA meets the definition of “high-need LEA.”

Note: An LEA includes a public charter school that operates as an LEA.

Note: As required by HEA section 203(a)(2), an eligible partnership may not receive more than one grant during a five-year period.

More information on eligible partnerships can be found in the TQP FAQ document on the program website at https://oese.ed.gov/offices/office-of-discretionary-grants-support-services/effective-educator-development-programs/teacher-quality-partnership/applicant-info-and-eligibility/.

2. a. Cost Sharing or Matching: Under section 203(c) of the HEA (20 U.S.C. 1022b(c)), each grant recipient must provide, from non-Federal sources, an amount equal to 100 percent of the amount of the grant, which may be provided in cash or in-kind, to carry out the activities supported by the grant. Applicants should budget their cost share or matching contributions on an annual basis for the entire five-year project period. Applicants must use the TQP Budget Worksheet to provide evidence of how they propose to meet their cost share or matching contributions for the entire five-year project period.

Consistent with 2 CFR 200.306(b) of the Uniform Guidance, any cost share or matching funds must be an allowable use of funds consistent with the cost principles detailed in Subpart E of the Uniform Guidance, and not included as a contribution for any other Federal award.

Section 203(c) of the HEA authorizes the Secretary to waive this cost share or matching requirement for any fiscal year for an eligible partnership if the Secretary determines that applying the cost share or matching requirement to the eligible partnership would result in serious hardship or an inability to carry out authorized TQP program activities. The Secretary does not, as a general matter, anticipate waiving this requirement in the future. Furthermore, given the importance of cost share or matching funds to the long-term success of the project, eligible entities must identify appropriate cost share or matching funds for the proposed five-year project period. Finally, the selection criteria include factors such as “the adequacy of support, including facilities, equipment, supplies, and other resources, from the applicant organization or the lead applicant organization” and “the extent to which the applicant demonstrates that it has the resources to operate the project beyond the length of the grant, including a multi-year financial and operating model and accompanying plan; the demonstrated commitment of any partners; evidence of broad support from stakeholders (e.g., SEAs, teachers' unions) critical to the project's long term success; or more than one of these types of evidence” which may include a consideration of demonstrated cost share or matching support.

Note: The combination of Federal and non-Federal funds should equal the total cost of the project. Therefore, grantees are required to support no less than 50 percent of the total cost of the project with non-Federal funds. Grantees are strongly encouraged to take this requirement into account when requesting Federal funds. Grantees must budget their requests accordingly and must verify that their budgets reflect the costs allocations appropriately. (Cost Share or Matching Formula: Total Project Cost divided by two equals Federal Award Amount).

b. Supplement-Not-Supplant: This program involves supplement-not-supplant funding requirements. In accordance with section 202(k) of the HEA (20 U.S.C. 1022a(k)), funds made available under this program must be used to supplement, and not supplant, other Federal, State, and local funds that would otherwise be expended to carry out activities under this program. Additionally, the supplement-not-supplant requirement applies to all cost share or matching funds under the program.

c. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see https://www2.ed.gov/about/offices/list/ocfo/intro.html.

3. Subgrantees: Under 34 CFR 75.708(b) and (c), a grantee under this competition may award subgrants to directly carry out project activities described in its application to the following types of entities: LEAs, SEAs, nonprofit organizations, or a business. The grantee may award subgrants to entities it has identified in an approved application.

4. Other:

a. Limitation on Administrative Expenses:

Under HEA section 203(d) (20 U.S.C. 1022b(d)), an eligible partnership that receives a grant under this program may not use more than two percent of the funds provided to administer the grant.

b. General Application Requirements:

All applicants must meet the following general application requirements in order to be considered for funding. The general application requirements are from HEA section 202(b) (20 U.S.C. 1022a(b)).

Each eligible partnership desiring a grant under this program must submit an application that contains—

(a) A needs assessment of the partners in the eligible partnership with respect to the preparation, ongoing training, professional development, and retention of general education and special education teachers, principals, and, as applicable, early childhood educators;

(b) A description of the extent to which the program to be carried out with grant funds, as described in the applicable absolute priority, will prepare prospective and new teachers with strong teaching skills;

(c) A description of how such a program will prepare prospective and new teachers to understand and use research and data to modify and improve classroom instruction;

(d) A description of—

(1) How the eligible partnership will coordinate strategies and activities assisted under the grant with other teacher preparation or professional development programs, including programs funded under the ESEA and the IDEA, and through the National Science Foundation; and

(2) How the activities of the partnership will be consistent with State, local, and other education reform activities that promote teacher quality and student academic achievement;

(e) An assessment that describes the resources available to the eligible partnership, including—

(1) The integration of funds from other related sources;

(2) The intended use of the grant funds; and

(3) The commitment of the resources of the partnership to the activities assisted under this program, including financial support, faculty participation, and time commitments, and to the continuation of the activities when the grant ends;

(f) A description of—

(1) How the eligible partnership will meet the purposes of the TQP program as specified in section 201 of the HEA;

(2) How the partnership will carry out the activities required under the applicable absolute priority, based on the needs identified in paragraph (a), with the goal of improving student academic achievement;

(3) If the partnership chooses to use funds under this section for a project or activities under section 202(f) of the HEA, how the partnership will carry out such project or required activities based on the needs identified in paragraph (a), with the goal of improving student academic achievement;

(4) The partnership's evaluation plan under section 204(a) of the HEA;

(5) How the partnership will align the teacher preparation program with the—

(i) State early learning standards for ECE programs, as appropriate, and with the relevant domains of early childhood development; and

(ii) Challenging State academic standards under section 1111(b)(1) of the ESEA, established by the State in which the partnership is located;

(6) How the partnership will prepare general education teachers to teach students with disabilities, including training related to participation as a member of individualized education program teams, as defined in section 614(d)(1)(B) of the IDEA;

(7) How the partnership will prepare general education and special education teachers to teach students who are limited English proficient;

(8) How faculty at the partner institution will work during the term of the grant, with teachers who meet the applicable State certification and licensure requirements, including any requirements for certification obtained through alternative routes to certification, or, with regard to special education teachers, the qualifications described in section 612(a)(14)(C) of the IDEA, in the classrooms of high-need schools served by the high-need LEA in the partnership to—

(i) Provide high-quality professional development activities to strengthen the content knowledge and teaching skills of elementary school and secondary school teachers; and

(ii) Train other classroom teachers to implement literacy programs that incorporate the essential components of reading instruction;

(9) How the partnership will design, implement, or enhance a year-long and rigorous teaching preservice clinical program component;

(10) How the partnership will support in-service professional development strategies and activities; and

(11) How the partnership will collect, analyze, and use data on the retention of all teachers and early childhood educators in schools and ECE programs located in the geographic area served by the partnership to evaluate the effectiveness of the partnership's teacher and educator support system; and

(g) With respect to the induction program required as part of the activities carried out under the applicable absolute priority—

(1) A demonstration that the schools and departments within the IHE that are part of the induction program will effectively prepare teachers, including providing content expertise and expertise in teaching, as appropriate;

(2) A demonstration of the eligible partnership's capability and commitment to, and the accessibility to and involvement of faculty in, the use of empirically based practice and scientifically valid research on teaching and learning;

(3) A description of how the teacher preparation program will design and implement an induction program to support, through not less than the first two years of teaching, all new teachers who are prepared by the teacher preparation program in the partnership and who teach in the high-need LEA in the partnership, and, to the extent practicable, all new teachers who teach in such high-need LEA, in the further development of the new teachers' teaching skills, including the use of mentors who are trained and compensated by such program for the mentors' work with new teachers; and

(4) A description of how faculty involved in the induction program will be able to substantially participate in an ECE program or elementary school or secondary school classroom setting, as applicable, including release time and receiving workload credit for such participation.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Submission of Proprietary Information: Given the types of projects that may be proposed in applications for the TQP program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We specify unallowable costs in 2 CFR 200, subpart E. We reference additional regulations outlining funding restrictions in the Applicable Regulations section of this notice.

Note: Tuition is not an allowable use of funds under this program.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

Furthermore, applicants are strongly encouraged to include a table of contents that specifies where each required part of the application is located.

6. Notice of Intent to Apply: The Department will be able to develop a more efficient process for reviewing grant applications if it has a better understanding of the number of entities that intend to apply for funding under this competition. Therefore, the Secretary strongly encourages each potential applicant to notify the Department of its intent to submit an application for funding by sending an email to TQPartnership@ed.gov with FY 2022 TQP Intent to Apply in the subject line. Applicants that do not send a notice of intent to apply may still apply for funding.

V. Application Review Information

1. Selection Criteria: The selection criteria for this competition are from 34 CFR 75.210. An applicant may earn up to a total of 100 points based on the selection criteria. The maximum score for each criterion is indicated in parentheses. Each criterion also includes the factors that the reviewers will consider in determining how well an application meets the criterion. The criteria are as follows:

(a) Quality of the project design (up to 30 points).

The Secretary considers the quality of the design of the proposed project. In determining the quality of the design of the proposed project, the Secretary considers the following factors:

(i) The extent to which the proposed project demonstrates a rationale.

(ii) The extent to which the goals, objectives, and outcomes to be achieved by the proposed project are clearly specified and measurable.

(iii) The extent to which the proposed project is part of a comprehensive effort to improve teaching and learning and support rigorous academic standards for students.

(iv) The extent to which the design of the proposed project reflects up-to-date knowledge from research and effective practice.

(v) The extent to which performance feedback and continuous improvement are integral to the design of the proposed project.

(vi) The extent to which the proposed project is designed to build capacity and yield results that will extend beyond the period of Federal financial assistance.

(b) Quality of the project evaluation (up to 20 points).

The Secretary considers the quality of the evaluation to be conducted of the proposed project. In determining the quality of the evaluation, the Secretary considers the following factors:

(i) The extent to which the methods of evaluation will provide valid and reliable performance data on relevant outcomes.

(ii) The extent to which the methods of evaluation are thorough, feasible, and appropriate to the goals, objectives, and outcomes of the proposed project.

(c) Adequacy of resources (up to 30 points).

The Secretary considers the adequacy of resources for the proposed project. In determining the adequacy of resources for the proposed project, the Secretary considers the following factors:

(i) The adequacy of support, including facilities, equipment, supplies, and other resources, from the applicant organization or the lead applicant organization.

(ii) The extent to which the budget is adequate to support the proposed project.

(iii) The extent to which the costs are reasonable in relation to the objectives, design, and potential significance of the proposed project.

(iv) The extent to which the applicant demonstrates that it has the resources to operate the project beyond the length of the grant, including a multi-year financial and operating model and accompanying plan; the demonstrated commitment of any partners; evidence of broad support from stakeholders (e.g., SEAs, teachers' unions) critical to the project's long-term success; or more than one of these types of evidence.

(v) The relevance and demonstrated commitment of each partner in the proposed project to the implementation and success of the project.

(d) Quality of the management plan (up to 20 points).

The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures:

Under 34 CFR 75.110, the following measures will be used by the Department to evaluate the overall effectiveness of the grantee's project, as well as the TQP program as a whole:

(a) Performance Measure 1: Certification/Licensure. The percentage of program graduates who have attained initial State certification/licensure by passing all necessary licensure/certification assessments within one year of program completion.

(b) Performance Measure 2: Shortage Area Certification. The percentage of participating teachers fully certified in math/science, SPED, ELL, and other identified teacher shortage areas where program graduates that attain initial certification/licensure by passing all necessary licensure/certification assessments within one year of program completion, if applicable to the applicant or grantee's project.

(c) Performance Measure 3: One-Year Persistence. The percentage of program participants who were enrolled in the postsecondary program in the previous grant reporting period who did not graduate, and persisted in the postsecondary program in the current grant reporting period.

(d) Performance Measure 4: One-Year Employment Retention. The percentage of program completers who were employed for the first time as teachers of record in the preceding year by the partner high-need LEA or ECE program and were retained for the current school year.

(e) Performance Measure 5: Three-Year Employment Retention. The percentage of program completers who were employed by the partner high-need LEA or ECE program for three consecutive years after initial employment.

(f) Performance Measure 6: Student Learning. The percentage of grantees that report improved aggregate learning outcomes of students taught by new teachers. These data can be calculated using student growth, a teacher evaluation measure, or both. (This measure is optional and not required as part of performance reporting.)

(g) Efficiency Measure: The Federal cost per program completer. (These data will not be available until the final year of the project period.)

Note: If funded, grantees will be asked to collect and report data on these measures in their project's annual performance reports (34 CFR 75.590). Applicants are also advised to consider these measures in conceptualizing the design, implementation, and evaluation of their proposed projects because of their importance in the application review process. Collection of data on these measures should be a part of the evaluation plan, along with measures of progress on goals and objectives that are specific to your project.

All grantees will be expected to submit an annual performance report documenting their success in addressing these performance measures.

Applicants must also address the evaluation requirements in section 204(a) of the HEA (20 U.S.C. 1022c(a)). This section asks applicants to develop objectives and measures for increasing—

(1) Achievement for all prospective and new teachers, as measured by the eligible partnership;

(2) Teacher retention in the first three years of a teacher's career;

(3) Improvement in the pass rates and scaled scores for initial State certification or licensure of teachers; and

(4) The percentage of teachers who meet the applicable State certification and licensure requirements, including any requirements for certification obtained through alternative routes to certification, or, with regard to special education teachers, the qualifications described in section 612(a)(14)(C) of the IDEA (20 U.S.C. 1412(a)(14)(C)), hired by the high-need LEA participating in the eligible partnership;

(5) The percentage of teachers who meet the applicable State certification and licensure requirements, including any requirements for certification obtained through alternative routes to certification, or, with regard to special education teachers, the qualifications described in section 612(a)(14)(C) of the IDEA (20 U.S.C. 1412(a)(14)(C)), hired by the high-need LEA who are members of underrepresented groups;

(6) The percentage of teachers who meet the applicable State certification and licensure requirements, including any requirements for certification obtained through alternative routes to certification, or, with regard to special education teachers, the qualifications described in section 612(a)(14)(C) of the IDEA (20 U.S.C. 1412(a)(14)(C)), hired by the high-need LEA who teach high-need academic subject areas (such as reading, mathematics, science, and foreign language, including less commonly taught languages and critical foreign languages);

(7) The percentage of teachers who meet the applicable State certification and licensure requirements, including any requirements for certification obtained through alternative routes to certification, or, with regard to special education teachers, the qualifications described in section 612(a)(14)(C) of the IDEA (20 U.S.C. 1412(a)(14)(C)), hired by the high-need LEA who teach in high-need areas (including special education, language instruction educational programs for limited English proficient students, and early childhood education);

(8) The percentage of teachers who meet the applicable State certification and licensure requirements, including any requirements for certification obtained through alternative routes to certification, or, with regard to special education teachers, the qualifications described in section 612(a)(14)(C) of the IDEA (20 U.S.C. 1412(a)(14)(C)), hired by the high-need LEA who teach in high-need schools, disaggregated by the elementary school and secondary school levels;

(9) As applicable, the percentage of ECE program classes in the geographic area served by the eligible partnership taught by early childhood educators who are highly competent; and

(10) As applicable, the percentage of teachers trained—

(i) To integrate technology effectively into curricula and instruction, including technology consistent with the principles of universal design for learning; and

(ii) To use technology effectively to collect, manage, and analyze data to improve teaching and learning for the purpose of improving student academic achievement.

6. Continuation Awards: In making a continuation award under 34 CFR 75.253, the Secretary considers, among other things: Whether a grantee has made substantial progress in achieving the goals and objectives of the project; whether the grantee has expended funds in a manner that is consistent with its approved application and budget; whether the grantee has met the required non-Federal cost share or matching requirement; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Ruth E. Ryder,
Deputy Assistant Secretary for Policy and Programs, Office of Elementary and Secondary Education.

[FR Doc. 2022-03889 Filed 2-24-22; 8:45 am]

BILLING CODE 4000-01-P